ENVIRONMENTAL PROTECTION AGENCY

[FRL-9985-71-OA]

Request for Nominations for a Science Advisory Board Panel To Review the EPA's Draft All-Ages Lead Model (AALM) Software and Model Documents

AGENCY: Environmental Protection Agency (EPA).

ACTION: Notice.

SUMMARY: The Environmental Protection Agency (EPA) Science Advisory Board (SAB) Staff Office requests public nominations of scientific experts to form a Panel to review EPA's Draft All-Ages Lead Model (AALM) software and model documents. The AALM is a tool for rapidly evaluating the impact of possible sources of lead on blood and other tissue levels in humans from birth to 90 years of age. The AALM predicts lead concentration in body tissues and organs for a hypothetical individual, based on a simulated lifetime of lead exposure.

DATES: Nominations should be submitted by November 23, 2018 per the instructions below.

FOR FURTHER INFORMATION CONTACT: Any member of the public wishing further information regarding this notice and request for nominations may contact Ms. Iris Goodman, Designated Federal Officer (DFO), EPA Science Advisory Board Staff Office (1400R), U.S. Environmental Protection Agency, 1200 Pennsylvania Avenue NW, Washington, DC 20460; by telephone at (202) 564-2164 or at goodman.iris@epa.gov.

General information concerning the EPA SAB can be found at the EPA SAB website at http://www.epa.gov/sab.

SUPPLEMENTARY INFORMATION:

Background: The SAB (42 U.S.C. 4365) is a chartered Federal Advisory Committee that provides independent scientific and technical peer review, advice, and recommendations to the EPA Administrator on the technical basis for EPA actions. As a Federal Advisory Committee, the SAB conducts business in accordance with the Federal Advisory Committee Act (FACA) (5 U.S.C. App. 2) and related regulations. The SAB AALM Review Panel will provide advice through the chartered SAB on scientific and technical issues related to the current version of the AALM model. The SAB and this Panel will comply with the provisions of FACA and all appropriate SAB Staff Office procedural policies.

The U.S. EPA's Office of Research and Development (ORD) in collaboration with Office of Chemical Safety and Pollution Prevention (OCSPP) developed the AALM to provide a tool for rapidly evaluating the impact of possible sources of lead on blood and other tissue levels in humans from birth to 90 years of age. The AALM predicts lead concentration in body tissues and organs for a hypothetical individual, based on a simulated lifetime of lead exposure.

The AALM is an outgrowth of the Integrated Exposure Uptake Biokinetic (IEUBK) Model for Lead in Children. The IEUBK model was designed to assess changes in blood lead of children over periods of no less than a month. The AALM was developed to cover childhood and adult lead exposures and allows users to assess the effects of intermittent lead exposures of a day or more as well as stable exposure conditions.

EPA's ORD and OCSPP coordinated efforts to advance lead biokinetic modeling and produced the current version of the AALM software and documentation. The SAB Staff Office is forming an expert panel under the auspices of the Chartered SAB, the SAB AALM Review Panel, to evaluate the new version of the AALM.

Technical Contact for EPA's draft report: For information concerning EPA's AALM software, and model documents, please contact Dr. James Brown by email at brown.james@epa.gov or phone at 919-541-0765.

Request for Nominations: The SAB Staff Office is seeking nominations of nationally and internationally recognized scientists with demonstrated expertise in one or more of the following areas: (1) Physiologically Based Pharmacokinetic modeling, particularly with regard to lead, (2) physiological processes related to lead distribution, mechanisms of transport, accumulation, concentrations at the organ/tissue level, residence times (or other measures of potential impact), and elimination of absorbed lead, (3) processes of the human uptake and/or absorption of ingested lead, (4) lead exposure pathway assessment, and/or (5) environmental or occupational lead exposure analyses.

Process and Deadline for Submitting Nominations: Any interested person or organization may nominate qualified individuals in the areas of expertise described above for possible service on the SAB AALM Review Panel identified in this notice. Nominations should be submitted in electronic format (preferred) following the instructions for “Nominating Experts to Advisory Panels and Ad Hoc Committees Being Formed,” provided on the SAB website (see the “Nomination of Experts” link under “Current Activities” at http://www.epa.gov/sab.

To receive full consideration, EPA's SAB Staff Office requests contact information about the person making the nomination; contact information about the nominee; the disciplinary and specific areas of expertise of the nominee; the nominee's resume or curriculum vitae; sources of recent grant and/or contract support; and a biographical sketch of the nominee indicating current position, educational background, research activities, and recent service on other national advisory committees or national professional organizations.

Persons having questions about the nomination procedures, or who are unable to submit nominations through the SAB website, should contact the DFO, Iris Goodman, as indicated above in this notice. Nominations should be submitted in time to arrive no later than November 23, 2018. EPA values and welcomes diversity. All qualified candidates are encouraged to apply regardless of sex, race, disability, or ethnicity.

The EPA SAB Staff Office will acknowledge receipt of nominations. The names and biosketches of qualified nominees identified by respondents to this Federal Register notice, and additional experts identified by the SAB Staff Office, will be posted in a List of Candidates for the panel on the SAB website at http://www.epa.gov/sab. Public comments on the List of Candidates will be accepted for 21 days. The public will be requested to provide relevant information or other documentation on nominees that the SAB Staff Office should consider in evaluating candidates.

For the EPA SAB Staff Office, a balanced review panel includes candidates who possess the necessary domains of knowledge, the relevant scientific perspectives (which, among other factors, can be influenced by work history and affiliation), and the collective breadth of experience. In forming the expert panel, the SAB Staff Office will consider public comments on the Lists of Candidates, information provided by the candidates themselves, and background information independently gathered by the SAB Staff Office. Selection criteria to be used for panel membership include: (a) Scientific and/or technical expertise, knowledge, and experience (primary factors); (b) availability and willingness to serve; (c) absence of financial conflicts of interest; (d) absence of an appearance of a loss of impartiality; (e) skills working in committees, subcommittees and advisory panels; and (f) for the panel as a whole, diversity of expertise and scientific points of view.

The SAB Staff Office's evaluation of an absence of financial conflicts of interest will include a review of the “Confidential Financial Disclosure Form for Environmental Protection Agency Special Government Employees” (EPA Form 3110-48). This confidential form allows government officials to determine whether there is a statutory conflict between a person's public responsibilities (which include membership on an EPA federal advisory committee) and private interests and activities, or the appearance of a loss of impartiality, as defined by federal regulation. The form may be viewed and downloaded from the following URL address http://yosemite.epa.gov/sab/sabproduct.nsf/Web/ethics?OpenDocument.

Dated: October 9, 2018.
Khanna Johnston,
Deputy Director, Science Advisory Board Staff Office.

[FR Doc. 2018-23904 Filed 10-31-18; 8:45 am]

BILLING CODE 6560-50-P